DEPARTMENT OF HOMELAND SECURITY

Federal Emergency Management Agency

[Docket ID FEMA-2018-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Date of modification | Community No.
Arizona:
Maricopa (FEMA Docket No.: B-1831). | City of El Mirage (18-09-0120P). | The Honorable Lana Mook, Mayor, City of El Mirage, 10000 North El Mirage Road, El Mirage, AZ 85335. | City Hall, 14405 North Palm Street, El Mirage, AZ 85335. | Aug. 10, 2018 | 040041
Maricopa (FEMA Docket No.: B-1837). | City of Goodyear (18-09-0175P). | The Honorable Georgia Lord, Mayor, City of Goodyear, 190 North Litchfield Road, Goodyear, AZ 85338. | Engineering Department, 14455 West Van Buren Street, Goodyear, AZ 85338. | Sep. 14, 2018 | 040046
Maricopa (FEMA Docket No.: B-1831). | City of Surprise (18-09-0120P). | The Honorable Sharon Wolcott, Mayor, City of Surprise, 16000 North Civic Center Plaza, Surprise, AZ 85374. | Public Works Department, Engineering Development Services, 16000 North Civic Center Plaza, Surprise, AZ 85374. | Aug. 10, 2018 | 040053
Maricopa (FEMA Docket No.: B-1837). | City of Surprise (18-09-0588P). | The Honorable Sharon Wolcott, Mayor, City of Surprise, 16000 North Civic Center Plaza, Surprise, AZ 85374. | Public Works Department, Engineering Development Services, 16000 North Civic Center Plaza, Surprise, AZ 85374. | Sep. 21, 2018 | 040053
Mohave (FEMA Docket No.: B-1831). | Town of Colorado City (17-09-2669P). | The Honorable Joseph Allred, Mayor, Town of Colorado City, P.O. Box 70, Colorado City, AZ 86021. | Town Hall, 25 South Central, Colorado City, AZ 86401. | Aug. 13, 2018 | 040059
Mohave (FEMA Docket No.: B-1831). | Unincorporated Areas of Mohave County (17-09-2669P). | The Honorable Gary Watson, Chairman, Board of Supervisors, Mohave County, 700 West Beale Street, Kingman, AZ 86402. | Mohave County, Administration Building, 700 West Beale Street, Kingman, AZ 86402. | Aug. 13, 2018 | 040058
California:
Lassen (FEMA Docket No.: B-1837). | Unincorporated Areas of Lassen County (18-09-0502P). | The Honorable Chris Gallagher, Chairman, Board of Supervisors, Lassen County, 221 South Roop Street, Suite 4, Susanville, CA 96130. | Lassen County Building Official, 707 Nevada Street, Susanville, CA 96130. | Sep. 12, 2018 | 060092
Riverside (FEMA Docket No.: B-1831). | City of Desert Hot Springs (18-09-0176P). | The Honorable Scott Matas, Mayor, City of Desert Hot Springs, 65950 Pierson Boulevard, Desert Hot Springs, CA 92240. | Planning Department, 65950 Pierson Boulevard, Desert Hot Springs, CA 92240. | Aug. 10, 2018 | 060251
San Diego (FEMA Docket No.: B-1833). | City of San Diego (17-09-1780P). | The Honorable Kevin L. Faulconer, Mayor, City of San Diego, 202 C Street, 11th Floor, San Diego, CA 92101. | Storm Water Division, 9370 Chesapeake Drive, Suite 100, MS 1900, San Diego, CA 92123. | Sep. 6, 2018 | 060295
San Diego (FEMA Docket No.: B-1833). | Unincorporated Areas of San Diego County (17-09-2820P). | The Honorable Kristin Gasper, Chair, Board of Supervisors, San Diego County, 1600 Pacific Highway, Room 335, San Diego, CA 92101. | San Diego County Department of Public Works, 5510 Overland Avenue, Suite 410, San Diego, CA 92123. | Sep. 5, 2018 | 060284
Sonoma (FEMA Docket No.: B-1837). | City of Petaluma (18-09-0524P). | The Honorable David Glass, Mayor, City of Petaluma, 11 English Street, Petaluma, CA 94952. | City Hall, 11 English Street, Petaluma, CA 94952. | Sep. 21, 2018 | 060379
Trinity (FEMA Docket No.: B-1837). | Unincorporated Areas of Trinity County (17-09-2611P). | The Honorable Keith Groves, Chairman, Board of Supervisors, Trinity County, P.O. Box 1613, Weaverville, CA 96093. | Trinity County Planning Department, 61 Airport Road, Weaverville, CA 96093. | Sep. 13, 2018 | 060401
Florida: St. Johns (FEMA Docket No.: B-1831). | Unincorporated Areas of St. Johns County (18-04-2271P). | The Honorable Henry Dean, Chairman, St. Johns County Board of Commissioners, St. Johns County Administration, 500 San Sebastian View, St. Augustine, FL 32084. | St. Johns County, Permitting Center, 4040 Lewis Speedway, St. Augustine, FL 32084. | Aug. 17, 2018 | 125147
Illinois:
Cook (FEMA Docket No.: B-1833). | City of Des Plaines (18-05-1146P). | The Honorable Matthew J. Bogusz, Mayor, City of Des Plaines, 1420 Miner Street, Des Plaines, IL 60016. | Civic Center, 1420 Miner Street, 5th Floor, Des Plaines, IL 60016. | Aug. 24, 2018 | 170081
Cook (FEMA Docket No.: B-1826). | Unincorporated Areas of Cook County (17-05-3265P). | The Honorable Toni Preckwinkle, President, Cook County Board, 118 North Clark Street, Room 537, Chicago, IL 60602. | Cook County Building and Zoning Department, 69 West Washington Street, 21st Floor, Chicago, IL 60602. | Jul. 20, 2018 | 170054
Cook (FEMA Docket No.: B-1826). | Village of Northbrook (17-05-3265P). | The Honorable Sandra E. Frum, Village President, Village of Northbrook, 1225 Cedar Lane, Northbrook, IL 60062. | Public Works Department, Engineering Division, 655 Huehl Road, Northbrook, IL 60062. | Jul. 20, 2018 | 170132
Cook (FEMA Docket No.: B-1839). | Village of Orland Park (18-05-2733P). | The Honorable Keith Pekau, Village President, Village of Orland Park, 14700 South Ravinia Avenue, Orland Park, IL 60462. | Village Hall, 14700 South Ravinia Avenue, Orland Park, IL 60462. | Sept. 21, 2018 | 170140
Kane (FEMA Docket No.: B-1839). | Village of Gilberts (17-05-3110P). | The Honorable Rick Zirk, Village President, Village of Gilberts, 87 Galligan Road, Gilberts, IL 60136. | Village Hall, 87 Galligan Road, Gilberts, IL 60136. | Sept. 20, 2018 | 170326
Will (FEMA Docket No.: B-1833). | City of Naperville (18-05-2871P). | The Honorable Steve Chirico, Mayor, City of Naperville, 400 South Eagle Street, Naperville, IL 60540. | City Hall, 400 South Eagle Street, Naperville, IL 60540. | Aug. 30, 2018 | 170213
Indiana:
Elkhart (FEMA Docket No.: B-1833). | City of Goshen (17-05-7171P). | The Honorable Jeremy P. Stutsman, Mayor, City of Goshen, Goshen City Hall, 202 South 5th Street, Goshen, IN 46528. | City Hall, 204 East Jefferson, Suite 4, Goshen, IN 46528. | Sep. 7, 2018 | 180058
Elkhart (FEMA Docket No.: B-1833). | Unincorporated Areas of Elkhart County (17-05-7171P). | The Honorable Mike Yoder, President, Elkhart County Board of Commissioners, Elkhart County Office Building, 117 North 2nd Street, Goshen, IN 46526. | Elkhart County Public Services, 4230 Elkhart Road, Elkhart, IN 46526. | Sep. 7, 2018 | 180056
Hamilton (FEMA Docket No.: B-1837). | City of Carmel (18-05-0387P). | The Honorable James Brainard, Mayor, City of Carmel City Hall, 1 Civic Square, Carmel, IN 46032. | Department of Community Services, 1 Civic Square, Carmel, IN 46032. | Jun. 27, 2018 | 180081
Marion (FEMA Docket No.: B-1837). | City of Indianapolis (18-05-0387P). | The Honorable Joe Hogsett, Mayor, City of Indianapolis, 2501 City-County Building, 200 East Washington Street, Indianapolis, IN 46204. | City Hall, 1200 Madison Avenue, Suite 100, Indianapolis, IN 46225. | Jun. 27, 2018 | 180159
Kansas:
Riley (FEMA Docket No.: B-1837). | City of Manhattan (18-07-0921P). | The Honorable Linda Morse, Mayor, City of Manhattan, 1101 Poyntz Avenue, Manhattan, KS 66502. | City Hall, 1101 Poyntz Avenue, Manhattan, KS 66502. | Sep. 19, 2018 | 200300
Sedgwick (FEMA Docket No.: B-1833). | City of Wichita (17-07-1225P). | The Honorable Jeff Longwell, Mayor, City of Wichita, City Hall, 455 North Main Street, 1st Floor, Wichita, KS 67202. | Office of Storm Water Management, 455 North Main Street, 8th Floor, Wichita, KS 67202. | Aug. 30, 2018 | 200328
Minnesota:
Dakota (FEMA Docket No.: B-1831). | City of Coates (18-05-2617P). | The Honorable Craig Franzmeier, Mayor, City of Coates, 3033 160th Street, East Rosemount, MN 55068. | City Clerk's Office, 15970 Comstock Avenue, Rosemount, MN 55068. | Aug. 10, 2018 | 270728
Dakota (FEMA Docket No.: B-1831). | Unincorporated Areas of Dakota County (18-05-2617P). | The Honorable Kathleen A. Gaylord, Chair, Dakota County Board of Commissioners, Dakota County Administration Center, 1590 Highway 55, Hastings, MN 55033. | Dakota County Administrator Center, 1590 Highway 55, Hastings, MN 55033. | Aug. 10, 2018 | 270101
Hennepin (FEMA Docket No.: B-1833). | City of Independence (17-05-0617P). | The Honorable Marvin Johnson, Mayor, City of Independence, City Hall, 1920 County Road 90, Independence, MN 55359. | City Hall, 1920 County Road, 90 Independence, MN 55359. | Aug. 27, 2018 | 270167
Hennepin (FEMA Docket No.: B-1833). | City of Minnetrista (17-05-0617P). | The Honorable Lisa Whalen, Mayor, City of Minnetrista, 7701 County Road 110, West Minnetrista, MN 55364. | City Hall, 7701 County Road 110, West Minnetrista, MN 55364. | Aug. 27, 2018 | 270175
Missouri: St. Louis (FEMA Docket No.: B-1837). | City of Ladue (17-07-2658P). | The Honorable Nancy Spewak, Mayor, City of Ladue, 9345 Clayton Road, Ladue, MO 63124. | City Hall, 9345 Clayton Road, Ladue, MO 63124. | Sep. 14, 2018 | 290363
Nevada: Douglas (FEMA Docket No.: B-1831). | Unincorporated Areas of Douglas County (17-09-1559P). | The Honorable Steve Thaler, Chairman, Board of Commissioners, Douglas County, P.O. Box 218, Minden, NV 89423. | Douglas County Community Development, 1594 Esmeralda Avenue, Minden, NV 89423. | Aug. 23, 2018 | 320008
New York:
Dutchess (FEMA Docket No.: B-1831). | Town of Washington (18-02-0573P). | The Honorable Gary E. Ciferri, Supervisor, Town of Washington, P.O. Box 667, Millbrook, NY 12545. | Washington Town Hall, 10 Reservoir Drive, Millbrook, NY 12545. | Sep. 28, 2018 | 361147
Dutchess (FEMA Docket No.: B-1831). | Village of Millbrook (18-02-0573P). | The Honorable Rod Brown, Mayor, Village of Millbrook, P.O. Box 349, Millbrook, NY 12545. | Village of Millbrook, 35 Merritt Avenue, Millbrook, NY 12545. | Sep. 28, 2018 | 360219
Nassau (FEMA Docket No.: B-1837). | City of Glen Cove (18-02-0451P). | The Honorable Tim Tenke, Mayor, City of Glen Cove, 9 Glen Street, Glen Cove, NY 11542. | City Hall, 9 Glen Street, Glen Cove, NY 11542. | Nov. 2, 2018 | 360465
Onondaga (FEMA Docket No.: B-1837). | Town of Lysander (18-02-0720P). | The Honorable Joseph P. Saraceni, Town Supervisor, Town of Lysander, 8220 Loop Road, Baldwinsville, NY 13027. | Town Hall, 8220 Loop Road, Baldwinsville, NY 13027. | Nov. 2, 2018 | 360583
Ohio:
Champaign (FEMA Docket No.: B-1837). | City of Urbana (17-05-6915P). | The Honorable Bill Bean, Mayor, City of Urbana, 205 South Main Street, Urbana, OH 43078. | Municipal Building, 205 South Main Street, Urbana, OH 43078. | Sep. 13, 2018 | 390060
Champaign (FEMA Docket No.: B-1837). | Unincorporated Areas of Champaign County (17-05-6915P). | Mr. Bob E. Corbett, Commissioner, Champaign County, 205 South Main Street, Urbana, OH 43078. | Champaign County, Engineer Office, 428 Beech Street, Urbana, OH 43078. | Sep. 13, 2018 | 390055
Lake (FEMA Docket No.: B-1833). | City of Mentor (18-05-1123P). | The Honorable John A. Krueger, President of Council, City of Mentor, Mentor Municipal Center, 8500 Civic Center Boulevard, Mentor, OH 44060. | Municipal Center, 8500 Civic Center Boulevard, Mentor, OH 44060. | Sep. 7, 2018 | 390317
Madison (FEMA Docket No.: B-1837). | City of London (17-05-6148P). | The Honorable Patrick J. Closser, Mayor, City of London, 6 East 2nd Street, London, OH 43140. | City Building, 102½ South Main Street, London, OH 43140. | Sep. 6, 2018 | 390366
Warren (FEMA Docket No.: B-1831). | City of Springboro (18-05-0285P). | The Honorable John Agenbroad, Mayor, City of Springboro, 320 West Central Avenue, Springboro, OH 45066. | Springboro Municipal Building, 320 West Central Avenue, Springboro, OH 45066. | Aug. 10, 2018 | 390564
Pennsylvania:
Montgomery (FEMA Docket No.: B-1837). | Township of Upper Dublin (17-03-1574P). | Mr. Ira S. Tackel, President, Upper Dublin Township Board of Commissioners, 801 Loch Alsh Avenue, Fort Washington, PA 19034. | Municipal Hall, 801 Loch Alsh Avenue, Fort Washington, PA 19034. | Sep. 17, 2018 | 420708
Montgomery (FEMA Docket No.: B-1837). | Township of Whitemarsh (17-03-1574P). | Ms. Amy R. Grossman, Chair, Whitemarsh Township Board of Supervisors, 616 Germantown Pike, Lafayette Hill, PA 19444. | Administrative Building, 616 Germantown Pike, Lafayette Hill, PA 19444. | Sep. 17, 2018 | 420712
Texas: Dallas (FEMA Docket No.: B-1831). | Town of Highland Park (18-06-0588P). | The Honorable Joel T. Williams, III, Mayor, Town of Highland Park, 4700 Drexel Drive, Highland Park, TX 75205. | Public Works Department, 4700 Drexel Drive, Highland Park, TX 75205. | Aug. 3, 2018 | 480178
Washington:
Kittitas (FEMA Docket No.: B-1831). | City of Ellensburg (17-10-1541P). | The Honorable Bruce Tabb, Mayor, City of Ellensburg City Hall, 501 North Anderson Street, Ellensburg, WA 98926. | City Hall, 501 North Anderson Street, Ellensburg, WA 98926. | Aug. 17, 2018 | 530234
Kittitas (FEMA Docket No.: B-1831). | Unincorporated Areas of Kittitas County (17-10-1541P). | The Honorable Laura Osiadacz, Chairman, Board of Commissioners, Kittitas County, 205 West 5th Avenue, Suite 108, Ellensburg, WA 98926. | Kittitas County Community Development Services, 411 North Ruby Street, Suite 1, Ellensburg, WA 98926. | Aug. 17, 2018 | 530095
Wisconsin: Dodge (FEMA Docket No.: B-1837). | Unincorporated Areas of Dodge County (17-05-4613P). | The Honorable Russell Kottke, Chairman, Dodge County Board of Supervisors, Administrative Building, 127 East Oak Street, Juneau, WI 53039. | Dodge County Administrative Building, 127 East Oak Street, Juneau, WI 53039. | Jun. 21, 2018 | 550094

[FR Doc. 2018-26004 Filed 11-29-18; 8:45 am]

BILLING CODE 9110-12-P